DEPARTMENT OF LABOR

Employment and Training Administration

[TA-W-63,910]

Magna Services of America, Inc., Magna Aftermarket, Inc., a Subsidiary of Magna International, Greenville, MI; Notice of Affirmative Determination Regarding Application for Reconsideration

By application postmarked September 26, 2008, the petitioners requested administrative reconsideration of the negative determination regarding workers' eligibility to apply for Trade Adjustment Assistance (TAA) and Alternative Trade Adjustment Assistance (ATAA) applicable to workers and former workers of the subject firm. The determination was issued on September 3, 2008. The Notice of Determination was published in the Federal Register on September 18, 2008 (73 FR 54174).

The initial investigation resulted in a negative determination based on the finding that imports of outdoor home speakers and lights did not contribute importantly to worker separations at the subject firm and no shift of production to a foreign source occurred.

In the request for reconsideration, the petitioners provided additional information pertaining to the foreign facilities of the subject firm and alleged a shift in production of outdoor home speakers and lights by the subject firm to Canada.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 10th day of October 2008.
Elliott S. Kushner,
Certifying Officer, Division of Trade Adjustment Assistance.

[FR Doc. E8-25071 Filed 10-21-08; 8:45 am]

BILLING CODE 4510-FN-P